DEPARTMENT OF COMMERCE

National Oceanic and Atmospheric Administration

Proposed Information Collection; Comment Request; Basic Requirements for Special Exemption Permits and Authorizations To Take, Import, and Export Marine Mammals, Threatened and Endangered Species, and for Maintaining a Captive Marine Mammal Inventory Under the Marine Mammal Protection, the Fur Seal, and the Endangered Species Acts

AGENCY: National Oceanic and Atmospheric Administration (NOAA), Commerce.

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before March 19, 2013.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Amy Sloan, (301) 427-8401 or Amy.Sloan@noaa.gov.

SUPPLEMENTARY INFORMATION:

I. Abstract

This request is for a revision and extension of a currently approved information collection.

The Marine Mammal Protection Act (16 U.S.C. 1361 et seq.; MMPA), Fur Seal Act (16 U.S.C. 1151 et seq.; FSA), and Endangered Species Act (16 U.S.C. 1531 et seq.; ESA) prohibit certain activities affecting marine mammals and endangered and threatened species, with exceptions. Pursuant to section 104 of the MMPA and Section 10 of the ESA, special exception permits can be obtained for scientific research and enhancing the survival or recovery of a species or stock of marine mammals or threatened or endangered species. Section 104 of the MMPA also includes permits for commercial and educational photography of marine mammals; import and capture of marine mammals for public display; and, Letters of Confirmation under the General Authorization for scientific research that involves minimal disturbance to marine mammals. The regulations implementing permits and reporting requirements under the MMPA and FSA are at 50 CFR part 216; the regulations for permit requirements under the ESA are at 50 CFR part 222. The required information in this collection is used to evaluate the impacts of the proposed activity on protected species; to make the determinations required by the MMPA, ESA and their implementing regulations prior to issuing a permit; and to establish appropriate permit conditions. Inventory reporting pertaining to marine mammals in public display facilities is required by the MMPA.

This information collection applies to protected species for which NMFS is responsible, including the marine mammal species of cetaceans (whales, dolphins and porpoises), pinnipeds (seals and sea lions), sea turtles (in water), white abalone, black abalone, smalltooth sawfish, largetooth sawfish (imports only), shortnose sturgeon, and Atlantic sturgeon. The information collection may be used for proposed listed species (e.g., corals).

The currently approved application and reporting requirements are being revised to include submission of Letters of Intent under the General Authorization via the existing online application system, Authorizations and Permits for Protected Species (APPS). Respondents can currently only apply for scientific research and enhancement permits using APPS. This revision also includes adding Atlantic sturgeon and largetooth sawfish. NMFS listed Atlantic sturgeon as endangered or threatened under the ESA on April 6, 2012 (77 FR 5914 and 77 FR 5580). Largetooth sawfish, which live outside of U.S. waters, were listed as endangered on August 11, 2011 (76 FR 40822). ESA Section 10 permits are required for taking or importing these ESA-listed species for scientific research or enhancement purposes.

A number of coral species have been proposed to be listed or reclassified under the ESA by NMFS (77 FR 73220). If such listings take effect, the scientific research and enhancement application instructions may be revised to clarify information pertaining to taking ESA-listed coral species. However, revisions pertaining to corals would not occur until and if a final listing rule was published.

II. Method of Collection

Permit applications, permit reports, and inventory reports are available in paper or electronic versions (online or via email). Respondents may submit all applications and forms by email, mail, or facsimile. Respondents may also submit scientific research and enhancement permit applications via an online application system, APPS.

III. Data

OMB Control Number: 0648-0084.

Form Number: None.

Type of Review: Regular submission (revision and extension of a currently approved collection).

Affected Public: Non-profit institutions; universities; Federal, State, local, or tribal governments; and business or other for-profit organizations.

Estimated Number of Respondents: 536.

Estimated Time per Response: Scientific research permit applications, 50 hours; public display permit applications, 30 hours; photography permit applications, 10 hours; General Authorization applications, 10 hours; major permit modification requests, 35 hours; minor permit modification requests, 3 hours; scientific research permit reports, 12 hours; public display permit reports, 2 hours; photography permit reports, 2 hours; General Authorization reports, 8 hours; public display inventory reporting, 2 hours; and recordkeeping, 2 hours per permit or authorization type (including permits for scientific research, public display, photography, General Authorization; and retention or transfer of rehabilitated animals).

Estimated Total Annual Burden Hours: 7,730.

Estimated Total Annual Cost to Public: $2,000 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: January 14, 2013.
Gwellnar Banks,
Management Analyst, Office of the Chief Information Officer.

[FR Doc. 2013-00965 Filed 1-17-13; 8:45 am]

BILLING CODE 3510-22-P